DEPARTMENT OF COMMERCE

International Trade Administration

North American Free Trade Agreement (NAFTA), Article 1904 Binational Panel Review: Notice of Completion of Panel Review

AGENCY: United States Section, NAFTA Secretariat, International Trade Administration, Department of Commerce.

ACTION: Notice of completion of panel review of the determination on remand by the United States International Trade Commission in the matter of Softwood Lumber Injury from Canada (Secretariat File Number: USA-CDA-2018-1904-03).

SUMMARY: Pursuant to the Final Panel Decision and Order dated May 22, 2020, in the matter of Softwood Lumber Injury from Canada (Determination on Remand), the Panel Review was completed on July 9, 2020.

FOR FURTHER INFORMATION CONTACT: Paul E. Morris, United States Secretary, NAFTA Secretariat, Room 2061, 1401 Constitution Avenue NW, Washington, DC 20230, (202) 482-5438, tradeagreementssecretariat@trade.gov.

SUPPLEMENTARY INFORMATION: Chapter 19 of Article 1904 of NAFTA provides a dispute settlement mechanism involving trade remedy determinations issued by the Government of the United States, the Government of Canada, and the Government of Mexico. Following a Request for Panel Review, a Binational Panel is composed to review the trade remedy determination being challenged and issue a binding Panel Decision. There are established NAFTA Rules of Procedure for Article 1904 Binational Panel Reviews (Rules) and in accordance with Rule 80, the Panel Review was completed and the panelists were discharged from their duties effective July 9, 2020. For the complete Rules, please see https://can-mex-usa-sec.org/secretariat/agreement-accord-acuerdo/nafta-alena-tlcan/rules-regles-reglas/index.aspx?lang=eng.

Dated: July 9, 2020.
Paul E. Morris,
U.S. Secretary, NAFTA Secretariat.

[FR Doc. 2020-15251 Filed 7-14-20; 8:45 am]

BILLING CODE 3510-DS-P